DEPARTMENT OF STATE

[Public Notice 8485]

Designation of Badruddin Haqqani as a Specially Designated Global Terrorist Pursuant to Section 1(b) of Executive Order 13224, as Amended

In accordance with section 1(b) of Executive Order 13224 of September 23, 2001, as amended (“the Order”), I hereby determine that the individual known as Badruddin Haqqani, also known as other aliases and transliterations, no longer meets the criteria for designation under the Order, and therefore I hereby revoke the designation of the aforementioned individual as a Specially Designated Global Terrorist pursuant to section 1(b) of the Order.

This notice shall be published in the Federal Register.

Dated: September 20, 2013.
John F. Kerry,
Secretary of State.

[FR Doc. 2013-23632 Filed 9-26-13; 8:45 am]

BILLING CODE 4710-10-P